DEPARTMENT OF JUSTICE

Notice of Lodging of Consent Decree Under the Federal Water Pollution Control Act (“Clean Water Act”)

Notice is hereby given that on July 21, 2010, a proposed Consent Decree in United States of America v. Fafard Real Estate and Development Corp., FRE Building Co. Inc., and Benchmark Engineering Corp., Civil Action No. 10-40131 was lodged with the United States District Court for the District of Massachusetts.

In this action, the United States alleged that Defendants violated Sections 301 and 308 of the Clean Water Act, 33 U.S.C. 1311 and 1318, at thirteen of its facilities in Massachusetts by discharging pollutants in storm water associated with construction activity without a permit, failing to timely submit information required to obtain coverage under the applicable storm water permit, and failing to comply with the requirements of the storm water permit. The Consent Decree requires Defendants to pay a civil penalty of $150,000, perform a Supplemental Environmental Project, and implement injunctive relief designed to ensure compliance with the Clean Water Act at all its facilities. The Supplemental Environmental Project requires the Defendants to impose a permanent restriction on a parcel of land and offer it as a donation to the Town of Uxbridge, Massachusetts, as well as construct two water quality basins and associated storm water management infrastructure on the Project site. The injunctive relief requires the Defendants to establish the position of storm water manager within the company who will be responsible for storm water compliance; conduct pre-construction inspections and quarterly oversight inspections and reviews using EPA-approved forms at all sites, in addition to required routine inspections; and implement storm water training programs for storm water managers and storm water orientation programs for storm water consultants and contractors.

The Department of Justice will receive comments relating to the Consent Decree for a period of thirty (30) days from the date of this publication. Comments should be addressed to the Deputy Section Chief, Environmental Enforcement Section, Environment and Natural Resources Division, and either e-mailed to pubcomment-ees.enrd@usdoj.gov or mailed to P.O. Box 7611, U.S. Department of Justice, Washington, DC 20044-7611, and should refer to United States v. Fafard Real Estate and Development Corp., FRE Building Co. Inc., and Benchmark Engineering Corp., D.J. Ref. 90-5-1-1-08714.

The Consent Decree may be examined at the Office of the United States Attorney, One Courthouse Way, John Joseph Moakley Courthouse, Boston, MA 02210, and at U.S. EPA Region 1, 5 Post Office Square, Boston, MA 02109. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $19.50 (25 cents per page reproduction cost) payable to the U.S. Treasury or, if by email or fax, forward a check in that amount to the Consent Decree Library at the stated address.

Maureen Katz,
Assistant Section Chief, Environmental Enforcement Section, Environment and Natural Resources Division.

[FR Doc. 2010-18242 Filed 7-23-10; 8:45 am]

BILLING CODE 4410-15-P